DEPARTMENT OF THE INTERIOR

National Park Service

[NPS-WASO-NAGPRA-NPS0040370; PPWOCRADN0-PCU00RP14.R50000]

Notice of Intended Repatriation: California Department of Parks and Recreation, Sacramento, CA

AGENCY: National Park Service, Interior.

ACTION: Notice.

SUMMARY: In accordance with the Native American Graves Protection and Repatriation Act (NAGPRA), the California Department of Parks and Recreation intends to repatriate certain cultural items that meet the definition of objects of cultural patrimony and that have a cultural affiliation with the Indian Tribes or Native Hawaiian organizations in this notice.

DATES: Repatriation of the cultural items in this notice may occur on or after July 16, 2025.

ADDRESSES: Send additional, written requests for repatriation of the cultural items in this notice to Dr. Leslie L. Hartzell, NAGPRA Coordinator, California Department of Parks and Recreation, P.O. Box 942896, Sacramento, CA 94296-0001, email leslie.hartzell@parks.ca.gov.

SUPPLEMENTARY INFORMATION: This notice is published as part of the National Park Service's administrative responsibilities under NAGPRA. The determinations in this notice are the sole responsibility of the California Department of Parks and Recreation, and additional information on the determinations in this notice, including the results of consultation, can be found in the summary or related records. The National Park Service is not responsible for the determinations in this notice.

Abstract of Information Available

A total of 52 cultural items have been requested for repatriation. The 52 objects of cultural patrimony are two tule skirts, one Big Head foundation, one clapper stick, two whistles, one collar, one topknot, one bundle of feather spines, two burden baskets, one cooking basket, nine miniature baskets, three gift baskets, one storage basket, one basket cup, one basket tray, two oval baskets, one basket bowl, 17 feathered baskets, one jar of deer sinew, one soaproot brush, one piece of obsidian, and two lots of magnesite beads. The object numbers are comprised of 254-3, 254-4, 254-7, 309-X-3150, 254-8, 254-1, 254-2, 254-5, 254-6, 082-190-264, 5617W, 5940W, 5942W, 5946W, 5948W, 5762W, 4530W, 6107W, 6523W, 082-190-230, 6703W, 6094W, 5772W, 5707W, 5705W, 5706W, 5768W, 5938W, 5939W, 6083W, 5957W, 5780W, 6175W, 6174W, 6285W, 6084W, 5604W, 6286W, 5646W, 3665W, 6290W, 5800W, 3486W, 6520W, 6131W, 5951W, 6282W, 4748W, 6671W, 3276W, 082-190-150, and 6133W.

In 1960 Frances Riddel, Curator of the California State Parks State Indian Museum, purchased nine objects of cultural patrimony from the Big Valley Rancheria. The nine items of cultural patrimony are two tule skirts, one Big Head foundation, one clapper stick, two whistles, one collar, one topknot, and one bundle of feather spines.

Between 1880 and 1915, Charles P. Wilcomb collected 11 items of cultural patrimony from Clear Lake, Lake County, California. Charles P. Wilcomb's collection was donated to the California State Parks State Indian Museum in the 1960s as part of the Hall-Sheedy collection. The 11 objects of cultural patrimony are one burden basket, five feathered baskets, one gift basket, two miniature baskets, one oval basket, and one storage basket.

Between 1880 and 1915, Charles P. Wilcomb collected 19 items of cultural patrimony from Kelseyville, Lake County, California. Charles P. Wilcomb's collection was donated to the California State Parks State Indian Museum in the 1960s as part of the Hall-Sheedy collection. The 19 objects of cultural patrimony are one basket bowl, one burden basket, four miniature baskets, nine feathered baskets, one gift basket, one oval basket, and two lots of magnesite beads.

Between 1880 and 1915, Charles P. Wilcomb collected two items of cultural patrimony from Lake Port, Lake County, California. Charles P. Wilcomb's collection was donated to the California State Parks State Indian Museum in the 1960s as part of the Hall-Sheedy collection. The two objects of cultural patrimony are one cooking basket and one miniature basket.

Between 1880 and 1915, Charles P. Wilcomb collected six items of cultural patrimony from Soda Bay, Lake County, California. Charles P. Wilcomb's collection was donated to the California State Parks State Indian Museum in the 1960s as part of the Hall-Sheedy collection. The six objects of cultural patrimony are two miniature baskets, one basket cup, one basket tray, one feathered basket, and one jar of deer sinew.

Between 1880 and 1915, Charles P. Wilcomb collected four items of cultural patrimony from Lower Lake, Lake County, California. Charles P. Wilcomb's collection was donated to the California State Parks State Indian Museum in the 1960s as part of the Hall-Sheedy collection. The four objects of cultural patrimony are two feathered baskets, one gift basket, and one soaproot brush.

Between 1880 and 1915, Charles P. Wilcomb collected one item of cultural patrimony from Uncle Sam Mountain (Mt. Konocti), Lake County, California. Charles P. Wilcomb's collection was donated to the California State Parks State Indian Museum in the 1960s as part of the Hall-Sheedy collection. The one object of cultural patrimony is one piece of obsidian.

Determinations

The California Department of Parks and Recreation has determined that:

• The 52 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Big Valley Band of Pomo Indians of the Big Valley Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 16, 2025. If competing requests for repatriation are received, the California Department of Parks and Recreation must determine the most appropriate requestor prior to repatriation. Requests for joint repatriation of the cultural items are considered a single request and not competing requests. The California Department of Parks and Recreation is responsible for sending a copy of this notice to the Indian Tribes and Native Hawaiian organizations identified in this notice and to any other consulting parties.

Authority: Native American Graves Protection and Repatriation Act, 25 U.S.C. 3004 and the implementing regulations, 43 CFR 10.9.

Dated: June 6, 2025.
Melanie O'Brien,
Manager, National NAGPRA Program.

[FR Doc. 2025-11008 Filed 6-13-25; 8:45 am]

BILLING CODE 4312-52-P